DEPARTMENT OF LABOR

Employment and Training Administration

[TA-W-58,525]

Gelita USA, Inc., A Gelita North America, Inc. Division, Sergeant Bluff, Iowa; Revised Determination Regarding Eligibility To Apply for Alternative Trade Adjustment Assistance

In accordance with section 223 of the Trade Act of 1974 (19 U.S.C. 2273), and section 246 of the Trade Act of 1974, as amended, (26 U.S.C. 2813), the Department of Labor issued a Certification of Eligibility To Apply for Worker Adjustment Assistance and a Negative Determination Regarding Eligibility To Apply for Alternative Trade Adjustment Assistance on January 19, 2006, applicable to workers of GELITA USA, Inc., a GELITA North America division, Sergeant Bluff, Iowa. The notice was published in the Federal Register on February 3, 2006 (71 FR 5896).

At the request of the State agency, the Department reviewed the certification for workers of the subject firm. The workers produce gelatine.

The review shows that the denial of eligibility for workers of the subject firm to apply for ATAA was issued in error.

A significant number of workers at the firm are age 50 or over and possess skills that are not easily transferable. Competitive conditions within the industry are adverse.

Accordingly, the Department is revising the negative determination regarding eligibility to apply for ATAA.

The revised notice applicable to TA-W-58,525 is hereby issued as follows:

All workers of GELITA USA, Inc., a GELITA North America division, Sergeant Bluff, Iowa, who became totally or partially separated from employment on or after December 20, 2004 through January 19, 2008, are eligible to apply for adjustment assistance under section 223 of the Trade Act of 1974, and are also eligible to apply for alternative trade adjustment assistance under section 246 of the Trade Act of 1974, as amended.

Signed in Washington, DC, this 17th day of February 2006.
Linda G. Poole,
Certifying Officer, Division of Trade Adjustment Assistance.

[FR Doc. E6-3421 Filed 3-9-06; 8:45 am]

BILLING CODE 4510-30-P